DEPARTMENT OF COMMERCE

[Docket No. 251124-0174]

Membership of the Performance Review Boards

AGENCY: Department of Commerce, Office of the Secretary.

ACTION: Notice of membership on Performance Review Boards.

SUMMARY: The Department of Commerce (DOC) announces the appointment of those individuals who have been selected to serve as members of the Office of the Secretary Performance Review Board, International Trade Administration (ITA) Performance Review Board, the Bureau of Industry and Security (BIS) Performance Review Board, Census Bureau Performance Review Board (Census), Bureau of Economic Analysis (BEA) Performance Review Board, National Oceanic and Atmospheric Administration (NOAA) Performance Review Board, National Institute of Standards and Technology (NIST) Performance Review Board, Economic Development Administration (EDA) Performance Review Board, and National Telecommunications and Information Administration (NTIA) Performance Review Board.

DATES: The appointment for those individuals selected for the Performance Review Boards begins immediately upon publication of this notice. Service is expected to last through Fiscal Year 2026.

FOR FURTHER INFORMATION CONTACT: Shannon M. Thompson, U.S. Department of Commerce, Office of Human Resources Management, Office of Executive Resources, 14th and Constitution Avenue NW, Washington, DC 20230, at (202) 482-7460.

SUPPLEMENTARY INFORMATION: In accordance with 5 U.S.C. 4314(c)(4), DOC, Office of the Secretary (OS), announces the appointment of those individuals who have been selected to serve as members of the OS, ITA, BIS, Census, BEA, NOAA, NIST and NTIA Performance Review Boards. The Performance Review Boards are responsible for (1) reviewing performance appraisals and ratings of Senior Executive Service and Senior Leader members and (2) making recommendations to the appointing authority on other performance management issues, such as pay adjustments and bonuses. The members listed in this notice can serve on any of the eight (8) boards mentioned if alternate members are needed.

This notice supersedes the list published in the Federal Register on October 20, 2023 (Docket No. 240906-0232).

The Performance Review Board Members: The name, position title, and bureau of each member are set forth below:

Abaroa, Patricia—Deputy Director, Bureau of Economic Analysis (BEA)

Arora, Vipin—Director, Bureau of Economic Analysis (BEA)

Bartlett, Joseph—Deputy Under Secretary for Industry and Security (BIS)

Boehm, Jason—Chief of Staff for National Institute of Standards and Technology (NIST)

Bolitzer, Benjamin—Deputy Chief Economist (Office of the Under Secretary for Economic Affairs)

Brown, Hannah—Chief Information Officer for NIST (NIST)

Carlis, DaNa—Director, National Severe Storms Laboratory (NOAA)

Caro, Juan—Deputy Assistant Secretary for International Affairs (NOAA)

Cassady, Adam—Deputy Assistant Secretary to NTIA (NTIA)

Chin, Joannie—Director, Engineering Laboratory (NIST)

Christ, Katelyn—Deputy Assistant Secretary for the Supply Chain Center (ITA)

Christy, James—Senior Advisor to the Deputy Director for Programs and Initiatives (Census)

Clark, Terrance—Director, Radar Operations Center (NOAA)

Dalal, Manan—Assistant Chief Information Officer, National Environmental Satellite Data and Information Service (NOAA)

DeFalco, David—Executive Director for Europe (ITA)

Doster, Kimberly—Director of Communications (NOAA)

Epley, Brian—Chief Information Officer (OS)

Folk, Alex—Director for Acquisition and Agreements Program Management (NIST)

Fullerton, Scot—Associate Deputy Assistant Secretary for AD/CVD Operations (ITA)

Garcia, Alexandra “Bonnie”—Director, Acquisition (NIST)

Gardner, Stephen—Chief Counsel for Commercial Law Development Program, Office of the General Counsel (OS)

Grimm, Laura—Chief of Staff for NOAA (NOAA)

Hawkins, Anne—Chief of Strategy (NOAA)

Jarmin, Ron—Deputy Director (Census)

Kinkoph, Doug—Associate Administrator for Office of internet Connectivity and Growth (NTIA)

Kumar, Harry—Senior Advisor (OS)

Kurland, Kevin—Principal Deputy Assistant Secretary for Export Enforcement (BIS)

Luce, John—General Counsel (NOAA)(Detail)

Martinez, Angela—Denver Regional Director (EDA)

Meroney, Bart—Executive Director for Manufacturing (ITA)

McKinney, Bradley—Deputy Assistant Secretary for U.S. Field (ITA)

Muslu, Deniz—Director, Office of Enforcement Analysis (BIS)

Netram, Chirstopher—Director, Office of Policy and Strategic Planning (OS)

O'Connor, Kasey—Chief of Staff, Office of the General Counsel (OS)

Pineiro-Soler, Eugenio—Assistant Administrator for Marine Fisheries (NOAA)

Shipp, Christopher—Chief of Staff (U.S. Patent and Trademark Office)

Sonderman, John—Director, Office of Export Enforcement (BIS)

Valentin, Keven—Chief Financial Officer and Director of Administration (BIS)

Dated: November 26, 2025.
Crystal Taylor,
Acting Director, Office of Human Resources Management and Chief Human Capital Officer.

[FR Doc. 2025-21734 Filed 12-1-25; 8:45 am]

BILLING CODE 3510-03-P